SECURITIES AND EXCHANGE COMMISSION

File No. 500-1

In the Matter of: ABS Group, Inc. (n/k/a The Motion Picture Group, Inc.), Accrue Software, Inc., iAsiaworks, Inc., Premier Laser Systems, Inc., Siskon Gold Corp., and Syquest Technology, Inc. (n/k/a SYQT, Inc.); Order of Suspension of Trading

May 7, 2008.

It appears to the Securities and Exchange Commission that there is a lack of current and accurate information concerning the securities of ABS Group, Inc. (n/k/a The Motion Picture Group, Inc.), because it has not filed any periodic reports since the period ended June 30, 1998.

It appears to the Securities and Exchange Commission that there is a lack of current and accurate information concerning the securities of Accrue Software, Inc., because it has not filed any periodic reports since the period ended December 28, 2002.

It appears to the Securities and Exchange Commission that there is a lack of current and accurate information concerning the securities of iAsiaworks, Inc., because it has not filed any periodic reports since the period ended September 30, 2001.

It appears to the Securities and Exchange Commission that there is a lack of current and accurate information concerning the securities of Premier Laser Systems, Inc., because it has not filed any periodic reports since the period ended December 31, 1999.

It appears to the Securities and Exchange Commission that there is a lack of current and accurate information concerning the securities of Siskon Gold Corp., because it has not filed any periodic reports since the period ended December 31, 1997.

It appears to the Securities and Exchange Commission that there is a lack of current and accurate information concerning the securities of Syquest Technology, Inc. (n/k/a SYQT, Inc.), because it has not filed any periodic reports since the period ended June 30, 1998.

The Commission is of the opinion that the public interest and the protection of investors require a suspension of trading in the securities of the above-listed companies.

Therefore, it is ordered, pursuant to section 12(k) of the Securities Exchange Act of 1934, that trading in the securities of the above-listed companies is suspended for the period from 9:30 a.m. EDT on May 7, 2008, through 11:59 p.m. EDT on May 20, 2008.

By the Commission.
Jill M. Peterson,
Assistant Secretary.

[FR Doc. 08-1241 Filed 5-7-08; 10:47 am]

BILLING CODE 8010-01-P